ENVIRONMENTAL PROTECTION AGENCY

[FRL-11275-01-R9]

Revision of Approved Primacy Program for Guam

AGENCY: Environmental Protection Agency (EPA).

ACTION: Notice of approval.

SUMMARY: Notice is hereby given that Guam revised its approved primacy program under the federal Safe Drinking Water Act (SDWA) by adopting regulations that effectuate the federal Revised Total Coliform Rule (RTCR). The Environmental Protection Agency (EPA) has determined that Guam's revision request meets the applicable SDWA program revision requirements and the regulations adopted by Guam are no less stringent than the corresponding federal regulations. Therefore, EPA approves this revision to Guam's approved primacy program. However, this determination on Guam's request for approval of a program revision shall take effect in accordance with the procedures described below in the SUPPLEMENTARY INFORMATION section of this notice after the opportunity to request a public hearing.

DATES: A request for a public hearing must be received or postmarked before September 29, 2023.

ADDRESSES: Documents relating to this determination that were submitted by Guam as part of its program revision request are available for public inspection online at https://notices.guam.gov, or available upon request by emailing julie.mendoza@epa.guam.gov. In addition, these documents are available by appointment between the hours of 8:00-11:30 a.m. and 1:00-4:00 p.m., Monday through Friday, at the following address: 3304 Mariner Ave. #17, Barrigada, GU 96913. If there are issues accessing the website, please contact Julie Mendoza at (671) 300-9026, or via email at julie.mendoza@epa.guam.gov.

FOR FURTHER INFORMATION CONTACT: Jake Jenzen, EPA Region 9, Drinking Water Section; via telephone at (415) 927-3570 or via email address at Jenzen.Jacob@epa.gov.

SUPPLEMENTARY INFORMATION: Background. EPA approved Guam's initial application for primary enforcement authority (“primacy”) of drinking water systems on August 10, 1978 (43 FR 35534). Since initial primacy approval, EPA has approved various revisions to Guam's primacy program. For the revision covered by this action, EPA promulgated the RTCR at 40 CFR subpart Y on February 26, 2014 (79 FR 10665). The RTCR revises the 1989 Total Coliform Rule and is intended to improve public health protection through the reduction of potential pathways of entry for fecal contamination into the distribution system. EPA has determined that Guam has adopted into law, RTCR requirements that are comparable to and no less stringent than the federal requirements. EPA has also determined that Guam's program revision request meets all of the regulatory requirements for approval, as set forth in 40 CFR 142.12, including a side-by-side comparison of the Federal requirements demonstrating the corresponding Guam authorities, additional materials to support special primacy requirements of 40 CFR 142.16, a review of the requirements contained in 40 CFR 142.10 necessary for Guam to attain and retain primary enforcement responsibility, and a statement by the Guam Attorney General certifying that Guam's laws and regulations to carry out the program revision were duly adopted and are enforceable. The Attorney General's statement also affirms that there are no environmental audit privilege and immunity laws that would impact Guam's ability to implement or enforce Guam's laws and regulations pertaining to the program revision. Therefore, EPA approves this revision of Guam's approved primacy program. The Technical Support Document, which provides EPA's analysis of Guam's program revision request, is available by submitting a request to the following email address: R9dw-program@epa.gov. Please note “Technical Support Document” in the subject line of the email.

Public Process. Any interested person may request a public hearing on this determination. A request for a public hearing must be received or postmarked before September 29, 2023 and addressed to the Regional Administrator of EPA Region 9, via the following email address: R9dw-program@epa.gov, or by contacting the EPA Region 9 contact person listed above in this notice by telephone if you do not have access to email. Please note “Guam Program Revision Determination” in the subject line of the email. The Regional Administrator may deny frivolous or insubstantial requests for a hearing. If a timely request for a public hearing is made, then EPA Region 9 may hold a public hearing. Any request for a public hearing shall include the following information: 1. The name, address, and telephone number of the individual, organization, or other entity requesting a hearing; 2. A brief statement of the requesting person's interest in the Regional Administrator's determination and of information that the requesting person intends to submit at such hearing; and 3. The signature of the individual making the request, or, if the request is made on behalf of an organization or other entity, the signature of a responsible official of the organization or other entity.

If EPA Region 9 does not receive a timely request for a hearing or a request for a hearing was denied by the Regional Administrator for being frivolous or insubstantial, and the Regional Administrator does not elect to hold a hearing on their own motion, EPA's approval shall become final and effective on September 29, 2023, and no further public notice will be issued.

Authority: Section 1413 of the Safe Drinking Water Act, as amended, 42 U.S.C. 300g-2 (1996), and 40 CFR part 142 of the National Primary Drinking Water Regulations.

Dated: August 8, 2023.
Martha Guzman Aceves,
Regional Administrator, EPA Region 9.

[FR Doc. 2023-17461 Filed 8-29-23; 8:45 am]

BILLING CODE 6560-50-P